Title 3—

The President

Executive Order 14362 of November 24, 2025

Designation of Certain Muslim Brotherhood Chapters as Foreign Terrorist Organizations and Specially Designated Global Terrorists

By the authority vested in me as President by the Constitution and the laws of the United States of America, including the Immigration and Nationality Act (8 U.S.C. 1101 et seq.) (INA), and the International Emergency Economic Powers Act (50 U.S.C. 1701 et seq.) (IEEPA), it is hereby ordered:

Section 1. Purpose. This order sets in motion a process by which certain chapters or other subdivisions of the Muslim Brotherhood shall be considered for designation as Foreign Terrorist Organizations, consistent with section 219 of the INA (8 U.S.C. 1189) and specially designated global terrorists, consistent with IEEPA (50 U.S.C. 1702), and Executive Order 13224 of September 23, 2001 (Blocking Property and Prohibiting Transactions with Persons Who Commit, Threaten to Commit, or Support Terrorism), as amended.

The Muslim Brotherhood, founded in Egypt in 1928, has developed into a transnational network with chapters across the Middle East and beyond. Relevant here, its chapters in Lebanon, Jordan, and Egypt engage in or facilitate and support violence and destabilization campaigns that harm their own regions, United States citizens, and United States interests. For example, in the aftermath of the October 7, 2023, attack in Israel, the military wing of the Lebanese chapter of the Muslim Brotherhood joined Hamas, Hezbollah, and Palestinian factions to launch multiple rocket attacks against both civilian and military targets within Israel. A senior leader of the Egyptian chapter of the Muslim Brotherhood, on October 7, 2023, called for violent attacks against United States partners and interests, and Jordanian Muslim Brotherhood leaders have long provided material support to the militant wing of Hamas. Such activities threaten the security of American civilians in the Levant and other parts of the Middle East, as well as the safety and stability of our regional partners.

Sec. 2. Policy. It is the policy of the United States to cooperate with its regional partners to eliminate the capabilities and operations of Muslim Brotherhood chapters designated as foreign terrorist organizations pursuant to section 3 of this order, deprive those chapters of resources, and thereby end any threat such chapters pose to United States nationals or the national security of the United States.

Sec. 3. Implementation. (a) Within 30 days of the date of this order, the Secretary of State and the Secretary of the Treasury, after consultation with the Attorney General and the Director of National Intelligence, shall submit a joint report to the President, through the Assistant to the President for National Security Affairs, concerning the designation of any Muslim Brotherhood chapters or other subdivisions, including those in Lebanon, Jordan, and Egypt, as foreign terrorist organizations consistent with 8 U.S.C. 1189, and specially designated global terrorists consistent with 50 U.S.C. 1702 and Executive Order 13224.

(b) Within 45 days of submitting the report required by subsection (a) of this section, the Secretary of State or the Secretary of the Treasury, as applicable, shall take all appropriate action consistent with 8 U.S.C. 1189 or 50 U.S.C. 1702 and Executive Order 13224, as applicable, with regard to the designation of any Muslim Brotherhood chapters or other subdivisions described in section 1 of this order as foreign terrorist organizations and specially designated global terrorists.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of State.

THE WHITE HOUSE,

November 24, 2025.

[FR Doc. 2025-21664

Filed 11-26-25; 11:15 am]

Billing code 4710-05-P